DEPARTMENT OF ENERGY

Federal Energy Regulatory Commission

[Docket No. CP22-42-000]

Northern Natural Gas Company; Notice of Schedule for the Preparation of an Environmental Assessment for the Ogden to Ventura A-Line Abandonment and Capacity Replacement Project

On January 21, 2022, Northern Natural Gas Company (Northern) filed an application in Docket No. CP22-42-000 requesting a Certificate of Public Convenience and Necessity pursuant to Sections 7(b) and 7(c) of the Natural Gas Act to construct, operate, and abandon certain natural gas pipeline facilities. The proposed project is known as the Ogden To Ventura A-Line Abandonment and Capacity Replacement Project (Project). Northern proposes to abandon in-place two segments of its A-line system, totaling 82.7 miles, in Boone, Webster, Wright, and Hancock Counties, Iowa and replace the abandoned capacity by extending the D-line in Wright County, Iowa. Northern states the Project would not result in a loss of service to its customers and would have no impact on Northern's ability to serve markets on its system.

On February 4, 2022, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020)

Schedule for Environmental Review

Issuance of EA July 15, 2022.

90-day Federal Authorization Decision Deadline ² October 13, 2022.

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Northern proposes to abandon in-place 82.7 miles of 20-inch-diameter pipeline and appurtenances on its IAM60601 A-line system (referred to as the A-Line) from Ogden to Ventura, Iowa. Ground disturbances would be required at three locations to expose and to cut and cap the pipeline prior to abandonment. Additionally, Northern proposes to install temporary compression at three mainline valve locations to allow for the evacuation of gas in the A-line to other existing mainlines on Northern's system. Northern also proposes to construct and operate a 6.04-mile-long extension of its 30-inch-diameter Ogden to Ventura IAM60604 D-line (referred to as the D-Line) and appurtenances to replace the capacity associated with the abandoned A-line. According to Northern, its Project would enhance the safety, reliability, security, and operational efficiency of its pipeline system.

The Project would consist of the following facilities:

• Disconnecting the 20-inch-diameter A-Line near the Ogden Compressor Station in Boone County, Iowa;

• disconnecting the 20-inch-diameter A-Line at the Eagle Grove branch line take-off in Wright County, Iowa;

• installing temporary compression at three discrete locations (one 300 horsepower unit within Boone, Webster, and Hancock Counties) to evacuate gas from the A-Line to the IAM60602 B-line;

• disconnecting the 20-inch-diameter A-Line at the Ventura Compressor Station in Hancock County, Iowa; and

• installing a pipeline extension of the D-Line consisting of 6.04 miles of 30-inch-diameter pipeline and an associated aboveground pig receiver ³ in Wright County, Iowa.

³ A “pig” is a tool that the pipeline company inserts into and pushes through the pipeline for cleaning the pipeline, conducting internal inspections, or other purposes.

Background

On March 4, 2022, the Commission issued a Notice of Scoping Period Requesting Comments on Environmental Issues for the Proposed Ogden to Ventura A-Line Abandonment and Capacity Replacement Project (Notice of Scoping). The Notice of Scoping was sent to affected landowners; federal, state, and local government agencies; elected officials; environmental and public interest groups; Native American tribes; other interested parties; and local libraries and newspapers. In response to the Notice of Scoping, the Commission received comments from six landowners. The primary issues raised by the commenters are impacts on agricultural land; final disposition of the pipeline; and an objection to the Project pending the applicant provide additional information to identify affected properties. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” (i.e., CP22-42), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 6, 2022.
Kimberly D. Bose,
Secretary.

[FR Doc. 2022-07807 Filed 4-11-22; 8:45 am]

BILLING CODE 6717-01-P